DEPARTMENT OF THE INTERIOR

National Park Service

[NPS-WASO-NRNHL-23664; PPWOCRADI0, PCU00RP14.R50000]

National Register of Historic Places; Notification of Pending Nominations and Related Actions

AGENCY: National Park Service, Interior.

ACTION: Notice.

SUMMARY: The National Park Service is soliciting comments on the significance of properties nominated before June 24, 2017, for listing or related actions in the National Register of Historic Places.

DATES: Comments should be submitted by August 2, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before June 24, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

HAWAII

Hawaii County

Honoka'a United Methodist Church, (Honoka'a Town, Hawaii MPS), 45-3525 Mamane St., Honoka'a, MP100001413

Masaaki Sakata Property, (Honoka'a Town, Hawaii MPS), 45-3577 Mamane St., Honoka'a, MP100001414

Teiji Yamatsuka Store, (Honoka'a Town, Hawaii MPS), 45-3590 Mamane St., Honoka'a, MP100001415

Honolulu County

TWO BROTHERS (New England Whaling Ship) Shipwreck, Address Restricted, French Frigate Shoals vicinity, SG100001416

Cooper Apartments, 413 Seaside Ave., Honolulu, SG100001417

KENTUCKY

Barren County

Rock Cabin Camp, 5091 Mammoth Cave Rd., Cave City vicinity, SG100001418

Bell County

Middlesboro Jewish Cemetery, 100 Hebrew Cemetery Rd., Middlesboro, SG100001419

Campbell County

Robinson, E.O., House, 105 Regency Ct., Highland Heights, SG100001420

Green County

Montgomery—Sandidge House, 1851 Columbia Hwy., Greensburg vicinity, SG100001421

Jefferson County

Kentucky Home School for Girls, 2305 Douglass Blvd., Louisville, SG100001422

Knott County

Devou Park, Montague Rd., Covington, SG100001423

Madison County

Kellogg and Company Warehouse, 131 Orchard St., Richmond, SG100001424

Mason County

West 2nd Street Historic District, W. 2nd, Rosemary Clooney & Short Sts., Rosemary, Shultz & unnamed Alleys, Maysville, SG100001425

McCracken County

Westminster Presbyterian Church, 2732 Broadway, Paducah, SG100001426

Mercer County

Harrodsburg Downtown Historic District (Boundary Increase and Additional Documentation), 109-225 E. Poplar, 115, 125 W. Poplar, 320-104 S. Chiles, 122, 112, 108 W. Lexington, Harrodsburg, BC100001427

Scott County

Craig—Peak House, 556 Cane Run Rd., Georgetown, SG100001428

LOUISIANA

Caddo Parish

Oil City School, 407 N. Kerley Ave., Oil City, SG100001429

Calcasieu Parish

DeQuincy Colored High School Gym, 502 S. Grand Ave., DeQuincy, SG100001430

Grant Parish

Fish Creek Site, 414 & 406 Trails End Rd., Pollock vicinity, SG100001431

Orleans Parish

Agudath Achim Anshe Sfard Synagogue, 2230 Carondelet St., New Orleans, SG100001432

Tangipahoa Parish

First Christian Church, 305 E. Charles St., Hammond, SG100001433

Greater St. James AME Church, 311 E. Michigan St., Hammond, SG100001434

Miller Memorial Library, 108 S. Pine St., Hammond, SG100001435

NEW MEXICO

Chaves County

Roswell Artist-in-Residence Compound, 1404 W. Berrendo Rd., Roswell, SG100001436

Dona Ana County

Tortugas Pueblo Fiesta of Our Lady of Guadalupe, Bounded by Emilia Rd., E. Guadalupe St., Juan Diego Ave. & Stern Dr., Toutugas, SG100001437

OHIO

Cuyahoga County

Building at 3101 Euclid Avenue, 3101 Euclid Ave., Cleveland, SG100001438

RHODE ISLAND

Providence County

Lafayette Worsted Company Administrative Headquarters Historic District, 134 & 148 Hamlet Ave., Woonsocket, SG100001439

UTAH

Salt Lake County

Burton, Harold W. and Evelyn, House, 2195 Walker Ln., Holladay, SG100001440

Gardner, Robert Jr., House, 1475 E. Murphy's Ln., Millcreek, SG100001441

Granite Schools Campus, 3305 South 500 East, South Salt Lake City, SG100001442

WASHINGTON

King County

Colonnade Hotel, 107 Pine St., Seattle, SG100001443

WISCONSIN

Columbia County

Dix Street—Warner Street Historic District, Roughly bounded by Maple Ave., Dix, Hibbard, Warner, Fuller & S. Charles Sts., Columbus, SG100001444

Dane County

Garver's Supply Company Factory and Office, 3244 Atwood Ave., Madison, SG100001445

An additional documentation has been received for the following resource(s):

ARIZONA

Maricopa County

Campus Vista Historic District, (Residential Subdivisions and Architecture in Central Phoenix, 1870-1963, MPS), 2901 N. 8th Ave., Phoenix, AD10000321

Pima County

Blenman—Elm Historic District, 2926 E. Lester St., Tucson, AD03000318

Nominations submitted by Federal Preservation Officers:

The State Historic Preservation Officer reviewed the following nomination(s) and responded to the Federal Preservation Officer within 45 days of receipt of the nomination(s) and supports listing the property(ies) in the National Register of Historic Places.

ARIZONA

Maricopa County

Bartlett Dam, (Salt River Project MPS), On Verde R. approx. 50 mi. ENE. of Phoenix, Carefree vicinity, MP100001406

Horse Mesa Dam, (Salt River Project MPS), On Salt R. approx. 65 mi. ENE. of Phoenix, Phoenix vicinity, MP100001408

Horseshoe Dam, (Salt River Project MPS), On Verde R. approx. 58 mi. ENE of Phoenix, Phoenix vicinity, MP100001409

Mormon Flat Dam, (Salt River Project MPS), On Salt R. approx. 50 mi. ENE. of Phoenix, Phoenix vicinity, MP100001410

Salt River Project Diversion and Conveyance System Historic District, (Salt River Project MPS), Greater Phoenix metropolitan area, Phoenix vicinity, MP100001454

Stewart Mountain Dam, (Salt River Project MPS), On Salt R. approx. 40 mi. ENE. of Phoenix, Phoenix vicinity, MP100001411

Authority: 36 CFR 60.13

Dated: June 29, 2017.
J. Paul Loether,
Chief, National Register of Historic Places/National Historic Landmarks Program, and Keeper, National Register of Historic Places.

[FR Doc. 2017-14989 Filed 7-17-17; 8:45 am]

BILLING CODE 4312-52-P